DEPARTMENT OF ENERGY

Federal Energy Regulatory Commission

Combined Notice of Filings

Take notice that the Commission has received the following Natural Gas Pipeline Rate and Refund Report filings:

Filings Instituting Proceedings

Docket Numbers: PR14-2-001.

Applicants: Washington 10 Storage Corporation.

Description: Tariff filing per 284.123/.224: Replace the term negotiated with Agreed-Upon to be effective 12/10/2013.

Filed Date: 12/10/13.

Accession Number: 20131210-5006.

Comments Due: 5 p.m. ET 12/18/13.

Docket Numbers: RP14-272-000.

Applicants: Iroquois Gas Transmission System, L.P.

Description: Iroquois Gas Transmission System, L.P. submits tariff filing per 154.204: 12/11/2013 Negotiated Rates—United Energy Trading, LLC (RTS) to be effective 12/11/2013.

Filed Date: 12/11/13.

Accession Number: 20131211-5109.

Comments Due: 5 p.m. ET 12/23/13.

Docket Numbers: RP14-273-000.

Applicants: Texas Eastern Transmission, LP.

Description: Texas Eastern Transmission, LP submits tariff filing per 154.204: ConocoPhillips 12-12-2013 Release to be effective 12/12/2013.

Filed Date: 12/11/13.

Accession Number: 20131211-5140.

Comments Due: 5 p.m. ET 12/23/13.

Docket Numbers: RP14-274-000.

Applicants: NGO Transmission, Inc.

Description: NGO Transmission, Inc. submits tariff filing per 154.204: NGO Transmission, Inc.—Negotiated Rate Filing to be effective 1/1/2014.

Filed Date: 12/11/13.

Accession Number: 20131211-5147.

Comments Due: 5 p.m. ET 12/23/13.

Docket Numbers: RP14-275-000.

Applicants: Gulf South Pipeline Company, LP.

Description: Gulf South Pipeline Company, LP submits tariff filing per 154.204: Amendments to Neg Rate Agmts (EOG 34687-14, 34950-3) to be effective 12/12/2013.

Filed Date: 12/12/13.

Accession Number: 20131212-5027.

Comments Due: 5 p.m. ET 12/24/13.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-224-001.

Applicants: WTG Hugoton, LP.

Description: WTG Hugoton, LP submits tariff filing per 154.205(b): WTG Hugoton, LP 2013 Annual Charge Adjustment Compliance Filing to be effective 10/1/2013.

Filed Date: 12/11/13.

Accession Number: 20131211-5079.

Comments Due: 5 p.m. ET 12/23/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2013.
Nathaniel J. Davis, Sr.,
Deputy Secretary.

[FR Doc. 2013-29930 Filed 12-16-13; 8:45 am]

BILLING CODE 6717-01-P